DEPARTMENT OF HEALTH AND HUMAN SERVICES

[Document Identifier: HHS-OS-0990-0281-30D]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before January 18, 2018.

ADDRESSES: Submit your comments to OIRA_submission@omb.eop.gov or via facsimile to (202) 395-5806.

FOR FURTHER INFORMATION CONTACT: Sherrette Funn, Sherrette.Funn@hhs.gov or (202) 795-7714. When submitting comments or requesting information, please include the document identifier 0990-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Prevention Communication Formative Research—Revision—OMB No. 0990-0281.

Type of Collection: Revision.

OMB No.: 0990-0281—Office of Disease Prevention and Health Promotion.

Abstract: The Office of Disease Prevention and Health Promotion (ODPHP) is focused on developing and disseminating health information to the public. ODPHP faces an increasingly urgent interest in finding effective ways to communicate health information to America's diverse population. ODPHP strives to be responsive to the needs of America's diverse audiences while simultaneously serving all Americans across a range of channels, from print to new communication technologies. To carry out prevention information efforts, ODPHP is committed to conducting formative and usability research to provide guidance on the development and implementation of their communication and education efforts. The information collected will be used to improve communication, products, and services that support key office activities including: Healthy People, Dietary Guidelines for Americans, Physical Activity Guidelines for Americans, healthfinder.gov, and increasing health care quality and patient safety. ODPHP communicates through its websites (www.healthfinder.gov, www.HealthyPeople.gov, www.health.gov) and through other channels including social media, print materials, interactive training modules, and reports. This request builds on previous formative research approaches to place more emphasis on web-based data collection to allow greater geographical diversity among respondents, to decrease respondent burden, and to save government costs. Data collection will be qualitative and quantitative and may include in-depth interviews, focus groups, web-based surveys, omnibus surveys, card sorting, and various forms of usability testing of materials and interactive tools to assess the public's understanding of disease prevention and health promotion content, responses to prototype materials, and barriers to effective use.

The program is requesting a 3-year clearance.

Likely Respondents: Respondents are likely to be either consumers or health professionals.

Total Estimated Annualized Burden Hours
Data collection task | Instrument/form name | Number of respondents | Number responses/ respondent | Average burden/ response (in hours) | Total response burden (in hours)
In-depth interviews | Screener | 1,500 | 1 | 10/60 | 250
| Interview | 500 | 1 | 1.00 | 500
Focus groups | Screener | 2,925 | 1 | 10/60 | 487.5
| Focus Group | 975 | 1 | 1.50 | 1,462.5
Intercept interviews | Interview | 5,250 | 1 | 5/60 | 437.50
Cognitive testing of instruments | Screener | 150 | 1 | 10/60 | 25
| Cognitive Test | 50 | 1 | 2.00 | 100
Web-based surveys | Screener | 30,000 | 1 | 5/60 | 2,500
| Survey | 10,000 | 1 | 15/60 | 2,500
Omnibus surveys | Survey | 2,100 | 1 | 10/60 | 350
Gatekeeper reviews | Review | 325 | 1 | 30/60 | 162.5
Card sorting | Screener | 600 | 1 | 10/60 | 100
| Card Sort | 200 | 1 | 1.00 | 200
Usability and prototype testing of materials (print and web) | Screener | 1,800 | 1 | 10/60 | 300
| Usability Test | 600 | 1 | 1.00 | 600
Total |  |  |  |  | 9,975.00

Darius Taylor,
Dept. of Health and Human Service, Paperwork Reduction Act Reports Clearance Officer.

[FR Doc. 2017-27251 Filed 12-18-17; 8:45 am]

BILLING CODE 4150-32-P